DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 55859-55860, dated September 23, 2005) is amended to reflect the establishment of the National Center for Health Marketing within the Coordinating Center for Health Information and Service, Centers for Disease Control and Prevention.

Section C-B, Organization and Functions, is hereby amended as follows:

Delete in its entirety the titles and functional statements for the Epidemiology Program Office (CB), the Office of Communication (CAA), and the Public Health Program Office (CH).

After the mission statement for the Office of the Director (CPA), Coordinating Center for Health Information and Service (CP), insert the following:

National Center for Health Marketing (CPB). The National Center for Health Marketing (NCHM) ensures that health information, interventions, and programs are based on sound science, objectivity, and continuous customer input; are designed to be accessible, appropriately packaged, released in a timely manner, and delivered to customers, organizations, and target populations through the most appropriate and effective channels and partners; and, are rigorously evaluated to measure impact on individual and organizational perceptions and decisions about health, as well as health outcomes across all life stages. In carrying out this mission, the NCHM: (1) Ensures that the Centers for Disease Control and Prevention (CDC) has the necessary data about its customers to develop information, interventions, and programs that respond to customers' needs, values, and uses; (2) ensures that CDC employs innovative and rigorous strategies for reaching its customers based on audience and communication research; (3) provides value-added, cross-cutting scientific support that ensures that the best available public health science is rapidly and reliably translated into effective practice and policy; (4) ensures efficient, focused use of CDC's expertise and mechanisms for delivering health information and services; (5) ensures that customers will have effective, real-time access to needed health and safety information, interventions, and programs through communication channels they prefer; (6) ensures effective strategic partnerships and alliances to extend CDC's reach; (7) increases public awareness and partner actions to enhance the public health infrastructure; (8) helps people understand what public health is as well as its relevance and value to people across all life stages; (9) promotes and facilitates efforts to measure progress toward agency goals and evaluates the impact of agency program; (10) accesses, promotes, and conducts marketing and prevention research; (11) develops and evaluates strategies for providing information, programs, and services; (12) develops and tests communication messages and programs for public and professional audiences; (13) develops and coordinates high-priority partnerships; (14) delivers CDC information and services to the public; (15) manages marketing-related shared services (e.g., channels, graphics) and in carrying out the above functions, collaborates, as appropriate, with other national centers (NC) of CDC; (16) fosters the development and/or improvement of methods by which the partnership of federal, state, and local public health agencies can assure the coordinated and effective establishment of priorities and responses to public health problems; (17) maintains a forum for communication, coordination, collaboration, and consensus among the NCs of CDC, public agencies, and private organizations concerned with ensuring the quality of public health practice; (18) works collaboratively with academic institutions, especially schools of public health and departments of preventive medicine, to develop and evaluate prevention practices; (19) provides a central service for consultation and the design, production, and evaluation of media and instructional services to support CDC's delivery of public health messages; and (20) provides consultation, technical assistance on health information systems, scientific communications, and development of community health practice guidelines to CDC and the Agency for Toxic Substances and Disease Registry (ATSDR), states, other agencies, and domestic and international organizations.

Office of the Director (CPB1). (1) Manages, directs, coordinates, and evaluates the activities of the NCHM; (2) develops goals and objectives, and provides leadership, policy formation, scientific oversight, and guidance in program planning and development; (3) coordinates assistance provided by NCHM to other CDC components, other federal, state, and local government agencies, and the private sector; and (4) chairs the NCHM Marketing Council.

Office of Business Services (CPB13). The Office of Business Services (OBS) provides a centralized business hub where customer service and business administration is the focal point of all business support functions. The OBS: (1) Develops and implements supplemental, and/or unique to NCHM, administrative policies and procedures that govern business administration, procurement practices, facilities management, time and attendance reporting, travel, records management, personnel, and a wide scope of other business services; (2) plans, coordinates, tracks, and provides management advice and direction of fiscal management for the organization's annual budgets and spend plans; (3) provides consultation on human capital needs and facilitates hiring and training practices as described in the Office of Personnel Management and agency guidelines; (4) coordinates and manages all business services related to management, administration, and training for NCHM; (5) coordinates all issues related to physical security, telecommunications, office space and design, procurement of equipment, furniture, information technology (IT) services, and facilities management; (6) provides assistance in formulating, developing, negotiating, managing, and administering various NCHM contracts, grants, and cooperative agreements; and (7) maintains liaison with the other offices within NCHM, the Coordinating Center for Health Information and Services, and other business service divisions and offices within CDC/ATSDR.

Division of Health Communication (CPBC). (1) Establishes, administers, and coordinates CDC's health communication policies in a manner to ensure that health communication efforts reflect the scientific integrity of all CDC research, programs, and activities, and that such information is factual, accurate, and targeted toward improving public health; (2) plans, organizes, administers, and, when appropriate, implements CDC's health communication programs consistent with policy direction established by the Department of Health and Human Services (DHHS); (3) provides leadership in the development of CDC's priorities, strategies, and practices for effective health communication; (4) provides a CDC-wide forum for the discussion, development, and adoption of health communication policies and procedures; (5) provides for the policy review and clearance of informational health communication materials, including talking points and fact sheets; (6) provides the public and targeted audiences, through communication channels, access to information systems, services, and materials that support or promote the health of individuals and communities; (7) plans, coordinates, and provides for appropriate CDC presence at national and major venues; (8) promotes, stimulates, conducts, and supports research on health communication topics of CDC-wide interest; (9) assists and supports the NCs of the agency in conducting formative processes, and outcome research and evaluation in specific applications of health communication to program areas; (10) assists the NCs and their constituents in identifying and building needed expertise and state-of-the-art technology, logistical support, and other capacities required for effective health communications; (12) promotes quality assurance in health communication programs, products, and initiatives; (13) systematically captures, assesses, and disseminates information on health communication research results and current or emerging trends and issues; (14) maintains liaison with officials from DHHS, other federal and state public health agencies, and nonprofit and voluntary health agencies to coordinate health communication programs of mutual interest and concern; (15) creates and maintains liaison with NCs to share information about health communication programs, identifying and ensuring opportunities for CDC-wide collaboration; (16) provides leadership for, and ensures coordination of, emergency and terrorism communication; (17) provides venues to educate the public, target audiences, and schoolchildren about public health and the advances contributed by CDC, other public health science programs; (18) operates the CDC Visitor and Education Center and touring/visiting the CDC exhibit program; and (19) develops, identifies, and implements strategies for translation and delivery of CDC health communication information to the public and key target audiences for maximum health impact.

Office of the Director (CPBC1). (1) Advises the Director, NCHM, the CCHIS, and the NCs on all matters related to health communication; (2) ensures that CDC communication activities follow policy directions established by the Assistant Secretary for Public Affairs (DHHS); (3) develops and coordinates CDC-wide policies and plans for health communication; (4) provides leadership in the development of CDC's priorities, strategies, and practices for effective health communication activities; (6) assures that CDC is effectively using all communication channels available to promote health communication messages; (7) ensures appropriate CDC presence at national and major venues to provide education and communication to the public and target audiences; (8) establishes strategy and oversight for emergency communication efforts; (9) produces periodic reports and publications; (10) manages CDC's health communication services to the public; (11) maintains liaison with officials of other federal agencies, voluntary health agencies, and state agencies to coordinate communication programs of mutual concern; and (12) provides facilitation for the CDC Visitor and Education Center and touring/visiting the CDC exhibit program.

Communication Interventions and Consultation Branch (CPBCB). (1) Identifies and implements strategies for translation and delivery of CDC information to key targeted audiences for maximum health impact; (2) identifies and pursues opportunities for bundling, embedding, and joint dissemination of CDC information to more effectively reach audiences; (3) monitors and refines (strategies) messages based on feedback mechanisms; (4) establishes measures of success/effectiveness of CDC information efforts and provides guidance to CDC programs on applying these measures; (5) ensures that “lessons learned” from evaluation are fed back into strategies for subsequent communication campaigns, information releases, delivery, and other communication projects; (6) ensures analytic function for interpretation of data from centralized marketing databases, sources of environmental scanning, and communication literature for use in development and implementation of strategies for communication activities; (7) evaluates the reach and effectiveness of CDC communication activities and products; (8) pursues or consults on the development and design of CDC communications campaigns, media buys, public service announcements (PSA), and other CDC information; (9) ensures that the content of CDC scientific communications is accessible (available, understandable, actionable) to the public and target audiences; (10) tailors science-based information for key sector audiences using knowledge of the interests and level of scientific sophistication of those audiences; (11) ensures that CDC's face to the outside world (through communication campaigns, information releases, and other communication projects) is consistent with overall CDC brand/identity strategies as set by marketing unit; (12) systemically integrates a broad spectrum of information on the policy environment, public attitudes, and related public and private initiatives that relate to CDC programs to improve health and safety, including information on health determinants; (13) brings an integrated marketing perspective to data collection and CDC data resources, bringing data from various sources to develop a more complete picture of the public and its health concerns/interests, and to address cross-cutting issues; (14) provides for efficient, agency-wide access to consumer-oriented databases that can help support public health marketing; (15) provides for systematic mechanisms for gaining public input on health issues and priorities (e.g., advisory mechanisms, focus groups, polling, legislative and media tracking) and for the systematic application of knowledge gained from such input into agency decision-making; (16) sponsors/initiates original research on: customer needs and interests; CDC's brands/reputation/image/ influence; needs and interests of key sectors and partners; audience segmentation; approaches to bundling and packaging of CDC offerings (information and products); methods for measuring effectiveness; communication to and about health systems/services research; and, effectiveness of messages and channels; (17) manages a repository of CDC and external research on the effectiveness of programs and interventions (both for public and sector audiences), and promotes the use of such evidence throughout CDC; and (18) provides consultation and/or access to functions 1-17 to ensure effective, consistent health communication programs at the NC level for specific NC health communication projects or issues.

Emergency Communication Branch (CPBCC). (1) Identifies and implements strategies for translation and delivery of CDC information related to national emergencies or terrorism events to key targeted audiences for maximum health impact; (2) identifies and pursues opportunities for bundling, embedding, and joint dissemination of CDC information related to national emergencies or terrorism events to more effectively reach audiences; (3) monitors and refines (strategies) message and channel selections, content, and use to address national emergencies or terrorism concerns based on feedback mechanisms; (4) ensures that “lessons learned” from evaluation of national emergency or terrorism concern communication efforts are fed back into strategies for subsequent communication campaigns, information releases, delivery, and other communication projects; (5) evaluates the reach and effectiveness of CDC communication activities and products for national emergency and terrorism concern communication efforts; (6) pursues or consults on the development, design, and dissemination of CDC communications campaigns, media buys, PSAs, and other CDC information related to national emergencies or terrorism concerns; (7) ensures that the content of CDC scientific communications is accessible (available, understandable, actionable) and disseminated to the public and target audience related national emergencies and terrorism concerns; (8) tailors science-based information related to national emergencies and terrorism concerns for key sector audiences using knowledge of the interests and level of scientific sophistication of those audiences; (9) ensures that CDC's face to the outside world (through communication campaigns, information releases, and other communication projects) during national emergencies or terrorism concern communication efforts is consistent with overall CDC brand/identity strategies as set by marketing unit; (10) manages the content during national emergencies or terrorism events on selected/major channels CDC uses to push national emergency and terrorism concern messages outward (e.g., media, Emergency Communication System, Epi-x, distance learning, broadcast/satellite capability, messaging through Health Alert Network) to include selection and promotion of content on selected channels, as well as evaluation of effectiveness in terms of customer use and comprehension of programs and information delivered via channel; (11) manages the content during national emergencies or terrorism events on selected/major channels the public uses to contact CDC (e.g., Internet, phone hotlines, museum) to include selection and promotion of content on selected channels, as well as evaluation of effectiveness in terms of customer use and comprehension of programs and information delivered via channel; (12) systematically integrates a broad spectrum of information on the policy environment, public attitudes, and related public and private initiatives that relate to CDC efforts to improve health and safety understanding and actions related to national emergencies and terrorism concerns; (13) brings an integrated marketing perspective to data collection and CDC data resources, bringing data from various sources to develop a more complete picture of the public and its health concerns/interests, and to address national emergencies and terrorism; (14) provides for systematic mechanisms for gaining public input during national emergencies and terrorism concerns (e.g., advisory mechanisms, focus groups, polling, legislative and media tracking), for getting customer feedback on CDC programs (Web site and 800 number feedback, user surveys, feedback from partners, media tracking), and for the systematic application of knowledge gained from such input into agency decision making; (15) sponsors/initiates original research related to national emergencies and terrorism concerns on: Customer needs and interest; CDC's brands/reputation/image/influence; needs and interests of key sectors and partners; audience segmentation; approaches to bundling and packaging of CDC offerings (information and products); methods for measuring effectiveness; health systems/services research; and, effectiveness of messages and channels; and (16) develops and manages content as well as facilitates use of a secure communication and data sharing network for federal, state and other selected public health officials.

Consumer Services Branch (CPBCD). (1) Identifies and implements strategies for delivery of CDC information to key communication channels to the public, and targeted audiences for maximum health impact; (2) identifies and pursues opportunities for communication-bundled CDC communication messages through appropriate, available channels; (3) monitors and refines channel selection, content, and use based on feedback mechanisms; (4) identifies ways to leverage existing dissemination channels for CDC information for use by other CDC units and projects; (5) implements and/or oversees the dissemination of communications campaigns, media buys, PSAs, and other CDC information through appropriate, available channels; (6) ensures that the content of CDC scientific communications is accessible (available, understandable, actionable) to the public and target audiences through appropriate, available channels; (7) ensures that dissemination of CDC's face to the outside world (through communication campaigns, information releases, and other communication projects) is consistent with overall CDC brand/identity strategies as set by marketing unit in all appropriate, available channels; (8) manages selected/major channels CDC uses to push messages outward (e.g., media, distance learning and broadcast/satellite capability) to include selection and promotion of content on selected channels as well as, evaluation of effectiveness in terms of customer use and comprehension of programs and information delivered via channel; (9) manages, oversees, and evaluates the content on selected/major channels the public uses to contact CDC (e.g., Internet, phone hotlines, museum) to include selection and promotion of content as well as, evaluation of effectiveness in terms of customer use and comprehension of programs and information delivered via channel; (10) provides for systematic mechanisms for getting customer feedback on CDC programs (Web site and 800 number feedback, user surveys, and feedback from partners) and for the systematic application of knowledge gained from such input into agency decision-making; and (11) provides oversight for, and operation of, the CDC Visitor and Education Center and touring/visiting the CDC exhibit program.

Division of Public and Private Partnerships (CPBD). (1) Provides leadership in the development and coordination of high-priority partnerships, and sets strategies and goals for working with five sectors and partners (business and workers, health care, education, federal agencies, foundations, faith, and community organizations); (2) identifies critical cross-CDC relationships and devotes concerted, consistent, and high-level attention to these relationships in order to maximize CDC's success in achieving priority health goals; (3) develops protocols for partnership “triage” to ensure timely and effective coordination; (4) serves as the agency-level contact on major issues for major partners or priority target partners; (5) provides leadership in building strategic relationships with new partners and extending the range of existing partnerships; (6) develops and maintains a database for high-priority, cross-cutting relationships; (7) provides leadership in developing systematic mechanisms for gaining public and private sector input on health issues and priorities, and identifies and pursues opportunities for broadening the range of approaches used by programs (e.g., using multiple communications channels; pursuing policy or engineering approaches in addition to direct-to-customer strategies); (8) oversees and manages a repository of CDC and external health policy research on the effectiveness of programs and interventions for public and private sector audiences; (9) identifies critical cross-CDC relationships, and devotes concerted, consistent and high-level attention to them (through partner coordinators and portfolio managers) in order to maximize CDC's success in achieving goals; (10) provides leadership in identifying and implementing strategies for effective delivery of CDC information to key sector audiences; (11) provides tailored, science-based information for key sector audiences; (12) provides leadership in the development of new mechanisms for agency-level communications with specific sectors; and (13) provides leadership by sponsoring/initiating original research on health policy, health promotion, and disease prevention.

Office of the Director (CPBD1). (1) Assures sector management support in the selection, prioritization, and implementation of CDC goals; (2) manages, directs, and coordinates the research agenda and activities of the division; (3) maintains partnership coordination database; (4) develops strategy and planning, and provides leadership and guidance on strategic planning, policy, program, project priority planning and setting, program management, and operations; (5) identifies and prioritizes sectors; (6) establishes division goals, objectives, and priorities; (7) monitors progress in implementation of projects and achievement of objectives; (8) plans, allocates, and monitors resources; (9) provides management, administrative, and support services, and coordinates with the NCHM Office of the Director on program and administrative matters; (10) establishes and supports a subcommittee of the Center's Marketing Council which represents the various NCs and regularly reviews the activities of the division; (11) provides liaison with other CDC organizations, other governmental agencies, private organizations, and other outside groups; and (12) provides scientific leadership and guidance to the division to assure highest scientific quality and professional standards.

Division of Public Health Partnerships (CPBE). (1) Provides leadership in the development and coordination of high-priority partnerships and sets strategy and goals for working with the public health community, especially state and local health organizations, their regional and national affiliate organizations, and public health and clinical laboratories and their affiliate organizations; (2) identifies critical cross-CDC relationships and devotes concerted, consistent, and high-level attention to these relationships in order to maximize CDC's success in achieving priority health goals; (3) develops protocols for partnership “triage” to ensure timely and effective coordination; (4) serves as the agency-level contact on major issues for major partners or priority target partners; (5) provides leadership in building strategic relationships with new partners and extending the range of existing partnerships; (6) supports a database for high-priority, cross-cutting relationships; (7) provides leadership in developing systematic mechanisms for gaining public health sector input on health issues and priorities to identify and implement strategies for broadening the range of approaches used by CDC programs (e.g., using multiple communications channels; pursuing policy or engineering approaches in addition to direct-to-customer strategies; and working in collaboration with other CDC offices to provide tailored, science-based information for effective delivery of CDC's information to key sector audiences) and new mechanisms for agency level communications with specific sectors; (8) develops knowledge base and understanding relative to the workings of important sectors, agencies, or groups in order to understand how CDC can more effectively achieve health and safety impact through partners; (9) identifies critical cross-CDC relationships and devotes concerted, consistent and high-level attention to them (through partner coordinators and portfolio managers) in order to maximize CDC's success in achieving goals; (10) provides leadership by collaborating on original research on public health sector services and interventions; and (11) provides leadership in collaboration with other CDC offices in addressing gaps in the public health system through field services and technical assistance.

Office of the Director (CPBE1). (1) Assures sector management support in the selection, prioritization, and implementation of CDC goals; (2) identifies and prioritizes partnerships; (3) establishes and supports partnership coordination database; (4) monitors progress in implementation of projects and achievement of objectives; (5) provides liaison with other CDC organizations, other governmental agencies, private organizations, and other outside groups; (6) coordinates with the NCHM Office of the Director on program, administrative, and informational matters; (7) develops strategy and planning, and provides leadership and guidance on strategic planning, policy, program management and operations, information technology, and project priority planning and setting; (8) establishes division goals, objective, and priorities and coordinates division activities with other components of CDC and partners external to CDC; (9) plans, allocates, and monitors resources; (10) manages, directs, and coordinates the research agenda and activities of the division; (11) provides scientific leadership and guidance to the division to assure highest scientific quality and professional standards; and (12) establishes and supports a governing council that represents the various NCs and regularly reviews the activities of the division.

Extramural Services Activity (CPBE12). (1) Performs administrative management, monitoring, and oversight functions for extramural programs and research activities of the division, and for the NCs who utilize the division's extramural mechanisms, which include cooperative agreements with national level public health organizations; (2) provides extramural expertise in the development, funding, and administration of grants, cooperative agreements, and contracts; (3) manages the peer review and other objective review panel processes as well as applications submitted under cross-cutting CDC umbrella cooperative agreements with Association of Schools of Public Health, Association of Teachers of Preventive Medicine, Association of American Medical Colleges, conference support grants; and all other division extramural mechanisms; (4) manages Oak Ridge Institute for Science and Education and other task order contracts, and all other procurements; and (5) conducts annual program planning activities and plans the award process cycle with the division, NCHM, and PGO staff.

Laboratory Practice Evaluation and Genomics Branch (CPBED). (1) Encourages the establishment and adoption of performance standards for laboratory practice; (2) develops, evaluates, and implements systems for measurement and assessment of laboratory quality; (3) facilitates and conducts research and demonstration to support the scientific development of performance standards, evaluation systems, and regulatory standards, and to assess the efficacy of established standards; (4) develops, promotes, implements, and evaluates intervention strategies to correct general performance deficiencies in health laboratory systems and workers; (5) provides a forum for exchange of general information about laboratory practice, research, and development activities to promote the coordination of federal, state, and clinical laboratory improvement efforts; (6) coordinates and conducts activities that provide technical and scientific support to the Centers for Medicare and Medicaid Services (CMS) in its evaluation, development, and revision of standards and guidelines; (7) monitors and evaluates current and emerging practices in genomics to improve quality and promote access to genetics testing; and (8) collaborates with other components of the division, NCHM, and other NCs of CDC in carrying out the above functions.

Laboratory Practice Standards Branch (CPBEE). (1) Encourages the establishment and adoption of mandatory and voluntary standards for laboratory practice; (2) assists the CMS in the implementation of the Clinical Laboratory Improvement Amendments (CLIA) of 1988; (3) coordinates and conducts standards development, validation, and review activities that provide support to CMS in its development and revision of the CLIA standards and guidelines; (4) provides technical assistance to CMS in its review of accreditation programs (deemed status) and proficiency testing provider programs; (5) provides technical assistance to CMS in responding to inquiries, review of guidelines for implementation, and general oversight, especially issues relating to testing complexity, personnel, quality control/quality assessment, and proficiency testing; (6) provides scientific support for issues relative to the development and implementation of cytology standards; (7) coordinates CDC efforts in dissemination of information about laboratory standards by providing materials, forums, briefings, and assistance to CDC and external organizations in the interpretation, understanding, and implementation of regulations; and (8) collaborates with other components of the division and with other NCs and offices of CDC in carrying out the above functions.

Laboratory Systems Development Branch (CPBEB). (1) Promotes the development of public health laboratory infrastructure and high level functionality, both nationally and internationally. Domestic efforts include: (2) improving access by state laboratories to information on their clinical laboratories (National Laboratory Database); (3) defining and promoting best practices (performance standards and Healthy People 2010 measures); (4) promoting the development of management and leadership skills among present and developing public health laboratory leaders (National Center for Public Health Laboratory Leadership); (5) improving the communication and collaboration between state public health and clinical laboratories; (6) researching the causes for failures to adopt voluntary laboratory practice guidelines, such as MMWR Recommendations and Reports; (7) providing consultation to state and larger local public health laboratories, which request advice concerning issues ranging from management to physical surroundings; (8) promoting, developing, and implementing training needs assessment methodology to establish priorities for training interventions; (9) developing and conducting training to facilitate the timely transfer of newly emerging laboratory technology and standards for laboratory practice; and, (10) providing technical assistance, consultation, and training for trainers to improve the capacity and capability of regional organizations and state health agencies to develop and maintain decentralized training networks for laboratory professionals. National efforts focus upon improving the performances of state and local public health laboratories and their integrated public health laboratory systems, which include clinical laboratories and other stakeholders such as epidemiologists. Similarly, international efforts strive to: (11) improve systems functions, with a particular focus on the development of quality assessment systems and the use of external quality assessment; (12) provide training and consultations concerning which laboratory equipment and reagents are most suited to infrastructure deprived settings; and (13) collaborate with other components of the division and with other NCs of CDC in carrying out the above functions.

State and Local Public Health Systems Branch (CPBEC). (1) Provides leadership within CDC, with national public health organizations, and with governmental public health agencies to promote and support effective national partnerships for health promotion and disease prevention; (2) advises CDC NCs on program activities that strengthen the nation's public health system through effective linkages with governmental public health agencies and national public health organizations; (3) manages cooperative agreements between CDC and national public health organizations aimed at strengthening the nation's public health system; (4) promotes, develops, conducts, and evaluates public health systems research aimed at strengthening the public health system with particular emphasis on optimizing performance of governmental public health agencies; (5) monitors (e.g., supports the collection and management of governmental public health system information for use in program and research activities) and evaluates the nation's public health system with regard to emerging issues (e.g., through environmental scanning), system effectiveness, and progress on achieving CDC's and the nation's public health goals; (6) provides knowledge and science-based information critical to the effectiveness of the governmental public health systems to public health agencies (e.g., public health practice consultation and information for critical system components such as epidemiology, public health nursing, etc.); (7) conducts recruitment, selection, placement, and administrative oversight/supervision of CDC field staff in governmental public health agencies (e.g., the Career Epidemiology Field Officer Program, and the provision of support to the Senior Management Officials Project, a.k.a. the Portfolio Manager Project) for selected parts of the public health system (e.g., critical gaps); (8) provides strategic leadership across CDC NCs for alignment of a field services mission to CDC goals pertaining to public health promotion, as well as public health system preparedness to support a strong national public health system, while operations and administrative oversight will be done by categorical programs in a NC for most field staff details; (9) provides leadership in defining CDC field staff goals for intramural capacity building, as well as goals for CDC extramural support to agencies at the state and local level for the purpose of assuring an effective public health system; (10) provides discipline specific and/or public health systems science-based information to CDC field staff to enhance effectiveness; (11) maintains methods of information-sharing among CDC field staff for the purpose of promoting effectiveness and monitoring overall public health system capacity; (12) conducts needs assessments at state and local public health agencies to adequately define host public health system needs and establish evaluation criteria to measure effectiveness of field staff placements; and (13) establishes and maintains strong program linkages with the Office of Workforce and Career Development and the Office of the Chief of Public Health Practice to facilitate systems development.

Division of Scientific Communications (CPBG). (1) Develops, implements, and evaluates innovative methods for the communication of scientific information by NCHM and its domestic and international constituents; (2) develops and executes a collaborative scientific communications action plan to achieve CDC's health protection goals; (3) provides expert consultation to NCHM on development of effective scientific messages, materials, and methods to clearly an effectively communicate risks and prevention recommendations, including written, oral, and visual communication; (4) ensures effective external oversight, input, and peer-review of CDC's scientific communications products; (5) develops new publications, broadcasts, and other communication products and services to meet the needs of CDC and targeted scientific audiences; (6) conducts systematic reviews and establishes mechanisms for achieving consensus on the effectiveness of heath interventions; (7) develops evidence-based recommendations for the use of population-based health interventions; (8) conducts audience surveys and other evaluations; (9) serves as the NCHM liaison to the National Center for Public Health Informatics regarding the development, implementation, and evaluation of communication technologies intended for scientific audiences; (1) serves as the NCHM liaison to other scientific publications and networks; and (11) conducts training in scientific communications.

Office of the Director (CPBG1). (1) Manages, directs, and coordinates the research agenda and activities of the Division of Scientific Communications; (2) establishes division goals, objectives, and priorities; and (3) co-chairs Communications Subcommittee of National Center for Health Marketing Council.

Scientific Publications Branch (CPBGB). (1) Develops, plans, coordinates, edits, and produces the MMWR series, including the MMWR Recommendations and Reports, CDC Surveillance Summaries, and Annual Summary of Notifiable Diseases; (2) develops new publications, broadcasts and other communication products and services to meet the needs of CDC and target scientific audiences; and (3) produces and manages publications to advance the understanding and use of health marketing.

Division of Creative Services (CPBH). (1) Implements strategies for effective delivery of CDC information to key target audiences; (2) implements communications delivery of CDC information to key target audiences; (2) implements communications campaigns, media buys, PSA's and other CDC information and services that are high priority and/or cross-cutting; (3) implements campaigns that cut across multiple programs and coordinating centers; (4) provides CDC-wide services including umbrella contracting and other “common carrier” mechanisms to reach primary channels (e.g. broadcast and video production, message design), resources for development of materials and products (e.g. graphic arts and related services outlined in business services consolidation), and collects and/or facilitates distribution of graphic resources (e.g. to engineering design and expertise to support broadcast production); (5) develops new mechanism for agency-level communications with the public (e.g. DHHS TV, CDC TV, Radio/TV broadcasting, electronic newsletter, customized Internet site, push e-mail systems, etc.) to include selection and promote of content on selected channels, as well as evaluation of effectiveness in terms of customer use and comprehension of programs and information delivered via channel); (6) manages delivery mechanisms for outbound communications; and (7) develops new mechanisms to communicate with the public.

Office of the Director (CPBH1). (1) Manages, directs, and coordinates the research agenda and activities of the Division of Creative Services; (2) establishes division goals, objectives, and priorities; (3) runs daily operations of division including personnel, pay, travel, IT services management, and routine procurement; (4) sets up and implements tracking and triage system for managing incoming requests for creative services as well as tracking progress in accomplishing task objectives and overall division performance measures; (5) develops and implements performance management measures for division to include metric definition, reporting, analysis, and customer governance activities; (6) establishes and maintains quality assurance editing to ensure that service and product quality are consistent with outside industry for the highest possible agency impact and perception; (7) provides customer account management by providing a means of coordination and communication with clients, and those fulfilling client requests, at the branch level; and (8) manages project and information archives to facilitate knowledge management and organizational efficiency.

Presentation Graphics and Multilingual Services Branch (CPBHC). (1) Supports agency-wide graphics, and language translation efforts through the use of state-of-the-art computer graphics and translation hardware and software; (2) develops and/or provides design and graphic elements for exhibits and presentations, desktop publishing, publications, editorial services, and multi-language translation services, and (3) processes DHHS clearances for all media and print-related products that are developed throughout the CDC which are to be distributed to audiences outside of CDC.

Broadcast Production and Distribution Branch (CPBHD). (1) Develops and/or provides agency-wide communication efforts through state of the art broadcast, television graphics, and video production channels; (2) supports the communication needs of the CDC's Director's Emergency Operations Centers (DEOC) to assure response capacity and capability for emergency broadcasts; (3) responsible for all CDC broadcast-grade video production requirements; (4) manages and provides leadership for the Public Health Training Network, which is a global distance learning network of partners providing access to public health distance learning; (5) in coordination with DHHS, develops and delivers programming for DHHS TV and assists in the development of the CDC global health network (CDC TV) to deliver timely and accurate information to improve health and safety for the U.S. public and around the world; (6) responsible for audio/video engineering design, installation, setup, and maintenance for the division. CDC Director's press rooms, and DEOCs as required; (7) provides in-house creation, duplication, and conversion of most video delivery formats, including VHS, S-VHS, DV-Cam, Mini-DV, D-HD, Betacam-SP, Digital-Betacam, HD (all formats) and international formats such as PAL, SECAM, SECAM-II and all future video formats; (8) provides audio-only production services including broadcast-grade in-house audio recording, video-sweetening, editing, voice-over talent, format-conversion, and delivery; and (9) provides professional consultation, training, and setup of multiple telecommunication systems including audio conference, videoconference, PBX, POTS (plain old telephone service) hybrid-integration, menu creation, design and operation.

Dated: September 23, 2005.
William H. Gimson,
Chief Operating Officer, Centers for Disease Control and Prevention (CDC).

[FR Doc. 05-20061 Filed 10-5-05; 8:45 am]

BILLING CODE 4160-18-M